DEPARTMENT OF AGRICULTURE

Agricultural Marketing Service (AMS)

Designation for the Essex, Illinois; Savage, Minnesota; Alabama; and Washington Areas

AGENCY: Agricultural Marketing Service, USDA.

ACTION: Notice of designation.

SUMMARY: AMS is announcing the designations of Kankakee Grain Inspection, Inc. (Kankakee); State Grain Inspection, Inc. (State Grain); Alabama Department of Agriculture and Industries (Alabama); and the Washington Department of Agriculture (Washington) to provide official services under the United States Grain Standards Act (USGSA), as amended. The realignment of offices within the U.S. Department of Agriculture authorized by the Secretary's Memorandum dated November 14, 2017, eliminates the Grain Inspection, Packers and Stockyards Administration (GIPSA) as a standalone agency. The grain inspection activities formerly part of GIPSA are now organized under the Agricultural Marketing Service (AMS).

DATES: Applicable Date: January 1, 2018.

ADDRESSES: Jacob Thein, Compliance Officer, USDA, AMS, FGIS, QACD, 10383 North Ambassador Drive, Kansas City, MO 64153

FOR FURTHER INFORMATION CONTACT: Jacob Thein, 816-866-2223, Jacob.D.Thein@usda.gov or FGIS.QACD@usda.gov.

Read Applications: All applications and comments are available for public inspection at the office above during regular business hours (7 CFR 1.27(c)).

SUPPLEMENTARY INFORMATION: In the July 3, 2017, Federal Register (82 FR 30817-30820), GIPSA requested applications for designation to provide official services in the geographic areas presently serviced by Kankakee, State Grain, Alabama, and Washington. Applications were due by August 2, 2017.

Because the current official agencies, Kankakee, State Grain, Alabama, and Washington, were the only applicants for designation to provide official services in these areas, GIPSA did not ask for additional comments.

GIPSA evaluated the designation criteria in section 7(f) of the USGSA (7 U.S.C. 79(f)) and determined that Kankakee, State Grain, Alabama, and Washington are qualified to provide official services in the geographic areas specified in the Federal Register on July 3, 2017. These designations to provide official services in the specified areas of Kankakee, Alabama, and Washington are effective January 1, 2018, to December 31, 2022. The designation to provide official services in the specified area of State Grain is effective January 1, 2018, to December 31, 2018.

Interested persons may obtain official services by contacting this agency at the following telephone number:

Official agency | Headquarters location and telephone | Designation start | Designation end
Kankakee | Essex, IL, 815-365-2268 | 1/1/2018 | 12/31/2022
State Grain | Savage, MN, 952-808-8566 | 1/1/2018 | 12/31/2018
Alabama | Montgomery, AL, 251-438-2549 | 1/1/2018 | 12/31/2022
Washington | Olympia, WA, 253-820-3756 | 1/1/2018 | 12/31/2022

Section 7(f) of the USGSA authorizes the Secretary to designate a qualified applicant to provide official services in a specified area after determining that the applicant is better able than any other applicant to provide such official services (7 U.S.C. 79 (f)).

Dated: December 21, 2017.
Bruce Summers,
Acting Administrator, Agricultural Marketing Service.

[FR Doc. 2017-28033 Filed 12-27-17; 8:45 am]

BILLING CODE 3410-02-P